EXPORT-IMPORT BANK OF THE UNITED STATES

[Public Notice 2015-0705]

Agency Information Collection Activities: Comment Request

AGENCY: Export-Import Bank of the United States.

ACTION: Submission for OMB review and comments request.

Form Title: EIB 92-41 Application for Financial Institution Short-Term, Single-Buyer Insurance.

SUMMARY: The Export-Import Bank of the United States (Ex-Im Bank) is requesting an emergency approval for form EIB 92-41, Application for Financial Institution Short-Term, Single-Buyer Insurance, in order to enhance the identification and classification of small businesses, as well as minority-, woman-, and veteran-owned businesses. The Bank will subsequently proceed with the regular authorization request for this form as required by the Paperwork Reduction Act of 1995.

This collection of information is necessary, pursuant to 12 U.S.C. Sec. 635(a)(1), to determine eligibility of the underlying export transaction for Ex-Im Bank insurance coverage.

The Export-Import Bank has made a change to the report to have the insured financial institution provide specific information (industry code, number of employees and annual sales volume) needed to make a determination as to whether or not the exporter meets the SBA's definition of a small business. The insured financial institution already provides a short description of the goods and/or services being exported and the name and address of the exporter. These additional pieces of information will allow Ex-Im Bank to better track the extent to which its support assists U.S. small businesses.

The other change that Ex-Im Bank has made is to require the insured financial institution to indicate whether the exporter is a minority-owned business, women-owned business and/or veteran-owned business. Although answers to the questions are mandatory, the company may choose any one of the three answers: Yes/No/Decline to Answer. The option of “Decline to Answer” allows a company to consciously decline to answer the specific question should they not wish to answer.

The information collection tool can be reviewed at: http://www.exim.gov/pub/pending/EIB92-41.pdf.

DATES: Comments must be received on or before March 9, 2015 to be assured of consideration.

ADDRESSES: Comments may be submitted electronically on www.regulations.gov or by mail to Michele Kuester, Export-Import Bank of the United States, 811 Vermont Ave. NW., Washington, DC 20571.

SUPPLEMENTARY INFORMATION:

Title and Form Number: EIB 92-41 Application for Financial Institution Short-Term, Single-Buyer Insurance.

OMB Number: 3048-0019.

Type of Review: Emergency.

Need and Use: The “Application for Financial Institution Short-term Single-Buyer Insurance” form will be used by financial institution applicants to provide Ex-Im Bank with the information necessary to determine if the subject transaction is eligible for Ex-Im Bank insurance coverage.

Affected Public

This form affects entities involved in the export of U.S. goods and services.

Annual Number of Respondents: 215.

Estimated Time per Respondent: 1.6 hours.

Annual Burden Hours: 344.

Frequency of Reporting of Use: Annual.

Government Expenses

Reviewing time per year: 1,290 hours.

Average Wages per Hour: $42.50.

Average Cost per Year (time*wages): $54,825.

Benefits and Overhead: 20%.

Total Government Cost: $70,176.

Bonita Jones-McNeil,
Agency Clearance Officer, Office of the Chief Information Officer.

[FR Doc. 2015-04194 Filed 2-27-15; 8:45 am]

BILLING CODE 6690-01-P